ENVIRONMENTAL PROTECTION AGENCY

[EPA-HQ-OPP-2008-0615; FRL-8410-2]

Endosulfan; Petitions Requesting Cancellation of All Uses

AGENCY: Environmental Protection Agency (EPA).

ACTION: Notice.

SUMMARY: This notice asks the public to comment on requests from the Natural Resources Defense Council (NRDC) and the Pesticide Action Network North America (PANNA) that EPA cancel all uses of the organochlorine pesticide endosulfan.

DATES: Comments must be received on or before June 29, 2009.

ADDRESSES: Submit your comments, identified by docket identification (ID) number EPA-HQ-OPP-2008-0615, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2008-0615. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Melanie Biscoe, Special Review and Reregistration Division (7508P), Office of Pesticide Programs, Environmental Protection Agency, 1200 Pennsylvania Ave., NW., Washington, DC 20460-0001; telephone number: 703-305-7106; fax number: 703-308-8090; e-mail address: biscoe.melanie@epa.gov.

SUPPLEMENTARY INFORMATION:

I. General Information

A. Does this Action Apply to Me?

This action is directed to the public in general, and may be of interest to a wide range of stakeholders including: environmental, human health, and agricultural advocates; the chemical industry, pesticide users, and members of the public interested in the sale, distribution, or the use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. What Action is the Agency Taking?

EPA seeks public comment on petitions from the NRDC and PANNA requesting that EPA cancel all uses of endosulfan. These petitions, available at regulations.gov under docket ID number EPA-HQ-OPP-2008-0615, were submitted on February 19, 2008 in response to EPA's 2007 human health and ecological effects assessment updates for endosulfan (72 FR 64624, November 16, 2007)(FRL-8339-5). The updated assessments, as well as the 2002 endosulfan Reregistration Eligibility Decision (RED), are available in the electronic docket at http://www.regulations.gov under docket number EPA-HQ-OPP-2002-0262.

Although the NRDC and PANNA petitions requested both cancellation of uses and revocation of tolerances, this notice is seeking public comment only on the requests to cancel all uses of endosulfan under section 6 of the Federal Insecticide, Fungicide, and Rodenticide Act (FIFRA) (7 U.S.C. 136d(b)). EPA issued a separate Federal Register notice on August 20, 2008 (73 FR 49194) soliciting public comment on the NRDC and PANNA petitions' requests to revoke all tolerances under section 408 of the Federal Food, Drug and Cosmetic Act (FFDCA), as amended by the Food Quality Protection Act (FQPA) and codified at 40 CFR 180.182.

The Agency notes that findings from its October 2008 Scientific Advisory Panel (SAP) meeting on Persistent Bioaccumulative Toxicants (PBTs), which were published on January 29, 2009, may be useful for the public in commenting on these petitions seeking cancellation of all uses under FIFRA. Key components of the meeting include review of methods for assessing environmental persistence, bioaccumulation, long-range transport, toxicity, and the role of sediment dynamics on estimating aquatic exposure concentrations for pesticides with varying persistent, bioaccumulative and toxic characteristics. Meeting minutes from the PBT SAP (73 FR 42796, July 23, 2008), are available at http://www.epa.gov/scipoly/sap/meetings/2008/october/minutes.pdf and are also in the electronic docket at http://www.regulations.gov under docket number EPA-HQ-OPP-2008-0550.

Later in April 2009 the Agency will publish a separate Notice in the Federal Register to solicit comments on its recently completed impact assessments on endosulfan, as well as any additional information stakeholders may have on the importance of endosulfan use in agriculture (EPA-HQ-OPP-2002-0262)(FRL-8411-1). The impact assessments evaluate the impacts on growers that could result from various risk management options, such as cancellation of uses and longer Restricted Entry Intervals (REIs). All stakeholders are encouraged to comment on these assessments, submit additional information for the Agency to consider, and provide data with which the Agency can better define the likely impacts. Please see docket number EPA-HQ-OPP-2002-0262 to access documents and submit comments related to the impact assessments and the importance of endosulfan use.

The Agency asks that comments on the NRDC and PANNA petitions' requests to cancel all uses of endosulfan be submitted to docket number EPA-HQ-OPP-2008-0615 within 60 days.

B. What is the Agency's Authority for Taking this Action?

This action is being taken under authority of FFDCA section 408(d)(3), 21 U.S.C. 346a(d)(3).

List of Subjects

Environmental protection, pesticides, and pests.

Dated: April 10, 2009.
Richard P. Keigwin, Jr.,
Director, Special Review and Reregistration Division, Office of Pesticide Programs.

[FR Doc. E9-9238 Filed 4-28-09; 8:45 a.m.]

BILLING CODE 6560-50-S